DEPARTMENT OF COMMERCE

Census Bureau

Proposed Information Collection; Comment Request; Quarterly Survey of Public Pensions

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before October 15, 2018.

ADDRESSES: Direct all written comments to Jennifer Jessup, Departmental Paperwork Clearance Officer, Department of Commerce, Room 6616, 14th and Constitution Avenue NW, Washington, DC 20230 (or via the internet at docpra@doc.gov).

FOR FURTHER INFORMATION CONTACT: Requests for additional information or copies of the information collection instrument(s) and instructions should be directed to Phillip Vidal, Chief, Pension Statistics Branch, International Trade Management Division, U.S. Census Bureau, Headquarters: 5K069, Washington, DC 20233; telephone: 301.763.1749; email: Phillip.m.vidal@census.gov.

SUPPLEMENTARY INFORMATION:

I. Abstract

The Census Bureau plans to request clearance for the form necessary to conduct the Quarterly Survey of Public Pensions. The quarterly survey was initiated by the Census Bureau in 1968 at the request of both the Council of Economic Advisers and the Federal Reserve Board.

The Quarterly Survey of Public Pensions currently provides national summary data on the revenues, expenditures, and composition of assets of the largest pension systems of state and local governments. The Census Bureau plans to cease collection of revenue and expenditure data on a quarterly basis and focus the collection on asset holdings of the largest pension systems. Revenue and Expenditure data will continue to be provided on an annual basis through the related Annual Survey of Public Pensions.

These data are used by the Federal Reserve Board to track the public sector portion of the Flow of Funds Accounts. Economists and public policy analysts use these data to assess general economic conditions and state and local government financial activities.

Data are collected from a panel of defined benefit plans of the 100 largest state and local government pension systems as determined by their total cash and security holdings reported in the 2012 Census of Governments. The defined benefit plans of these 100 largest pension systems comprise 87.2 percent of financial activity among such entities, based on the 2012 Census of Governments.

II. Method of Collection

Survey data are collected through the Census Bureau's web collection system that enables public entities to respond to the questionnaire via the internet. The questionnaire is available online for respondents to print when they choose to mail or fax. Most respondents choose to report their data online. In addition to reporting current quarter data, respondents may provide initial data for the previous seven quarters or submit revisions to their data submitted in the previous seven quarters.

III. Data

OMB Control Number: 0607-0143.

Form Number(s): F-10.

Type of Review: Regular submission.

Affected Public: State and locally-administered public pension plans.

Estimated Number of Respondents: 100.

Estimated Time per Response: 45 minutes.

Estimated Total Annual Burden Hours: 300.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 161 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department Lead PRA Officer, Office of the Chief Information Officer.

[FR Doc. 2018-17449 Filed 8-13-18; 8:45 am]

BILLING CODE 3510-07-P